DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons that have been placed on OFAC's Specially Designated Nationals and Blocked Persons List (the SDN List) based on OFAC's determination that one or more applicable legal criteria were satisfied. Additionally, OFAC is publishing updates to the identifying information of persons currently included in the SDN List. All property and interests in property subject to U.S. jurisdiction of these persons are blocked, and U.S. persons are generally prohibited from engaging in transactions with them.

DATES: See SUPPLEMENTARY INFORMATION section for effective date(s).

FOR FURTHER INFORMATION CONTACT: OFAC: Associate Director for Global Targeting, tel.: 202-622-2420; Assistant Director for Sanctions Compliance & Evaluation, tel.: 202-622-2490; Assistant Director for Licensing, tel.: 202-622-2480; or Assistant Director for Regulatory Affairs, tel.: 202-622-4855.

SUPPLEMENTARY INFORMATION:

Electronic Availability

The Specially Designated Nationals and Blocked Persons List and additional information concerning OFAC sanctions programs are available on OFAC's website (https://www.treasury.gov/ofac).

Notice of OFAC Actions

A. On March 22, 2021, OFAC determined that the property and interests in property subject to U.S. jurisdiction of the following persons are blocked under the relevant sanctions authority listed below.

Individuals

B. On March 22, 2021, OFAC updated the entries on the SDN List for the following persons, whose property and interests in property subject to U.S. jurisdiction continue to be blocked under the relevant sanctions authority listed below.

Individuals

1. AUNG KYAW ZAW (a.k.a. AUNG KYAW ZAWW), Burma; DOB 20 Aug 1961; Gender Male; Passport DM-000826 issued 22 Nov 2011 (individual) [GLOMAG].

-to-

ZAW, Aung Kyaw (a.k.a. ZAWW, Aung Kyaw), Burma; DOB 20 Aug 1961; Gender Male; Passport DM-000826 issued 22 Nov 2011 (individual) [GLOMAG].

Designated on August 17, 2018 pursuant to section 1(a)(ii)(C)(1) of E.O. 13818 for being or having been a leader or official of Burma's Bureau of Special Operations 3, an entity that has engaged in, or whose members have engaged in, serious human rights abuse relating to the leader's or official's tenure

2. KHIN HLAING, Burma; DOB 02 May 1968; Gender Male (individual) [GLOMAG].

-to-

HLAING, Khin, Burma; DOB 02 May 1968; Gender Male (individual) [GLOMAG].

Designated pursuant to section 1(a)(ii)(C)(1) of E.O. 13818 for being or having been a leader or official of Burma's 99th Light Infantry Division, an entity that has engaged in, or whose members have engaged in, serious human rights abuse relating to the leader's or official's tenure.

3. KHIN MAUNG SOE, Burma; DOB 1972; Gender Male (individual) [GLOMAG].

-to-

SOE, Khin Maung, Burma; DOB 1972; Gender Male (individual) [GLOMAG].

Designated pursuant to section 1(a)(ii)(C)(1) of E.O. 13818 for being or having been a leader or official of Burma's Military Operations Command 15, an entity that has engaged in, or whose members have engaged in, serious human rights abuse relating to the leader's or official's tenure.

4. THURA SAN LWIN, Burma; DOB 17 Mar 1959; POB Yangon, Burma; Gender Male (individual) [GLOMAG].

-to-

LWIN, Thura San, Burma; DOB 17 Mar 1959; POB Yangon, Burma; Gender Male (individual) [GLOMAG].

Designated pursuant to section 1(a)(ii)(C)(1) of E.O. 13818 for being or having been a leader or official of Burma's Border Guard Police, an entity that has engaged in, or whose members have engaged in, serious human rights abuse relating to the leader's or official's tenure.

Also designated pursuant to section 1(a)(ii)(A) of E.O. 13818 for being responsible for or complicit in, or having directly or indirectly engaged in, serious human rights abuse.

Dated: March 22, 2021.
Bradley T. Smith,
Acting Director, Office of Foreign Assets Control.

[FR Doc. 2021-06250 Filed 3-25-21; 8:45 am]

BILLING CODE 4810-AL-P